DEPARTMENT OF ENERGY

Federal Energy Regulatory Commission

[Docket No. RP00-291-000]

Trunkline LNG Company; Notice of Proposed Changes in FERC Gas Tariff

May 25, 2000.

Take notice that on May 19, 2000, Trunkline LNG Company (TLNG) tendered for filing as part of its FERC Gas Tariff, Original Volume No. 1-A, the tariff sheets listed on Appendix A to the filing, with an effective date of July 1, 2000.

TLNG states that the filing is being made in accordance with the provisions of Section 154.202 of the Commission's Regulations, to implement Rate Schedule LLS for LNG Lending Service on TLNG's system pursuant to TLNG's blanket authority under Part 284 of the Commission's Regulations. In addition to Rate Schedule LLS and its form of service agreement, TLNG is also proposing certain conforming changes to the General Terms and Conditions.

TLNG states that copies of the filing are being served on all affected customers and applicable state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13627 Filed 5-31-00; 8:45am]

BILLING CODE 6717-01-M